DEPARTMENT OF COMMERCE

International Trade Administration

[A-351-602, A-588-602, A-570-814, A-583-605, A-549-807, A-475-703, A-588-707]

Carbon Steel Butt-Weld Pipe Fittings From Brazil, Japan, the People's Republic of China, Taiwan, and Thailand, and Granular Polytetrafluoroethylene Resin From Italy and Japan: Extension of Time Limit for the Final Results of Sunset Reviews of Antidumping Duty Orders

AGENCY: Import Administration, International Trade Administration, U.S. Department of Commerce.

DATES: Effective Date: April 7, 2005.

FOR FURTHER INFORMATION CONTACT: Martha Douthit at 202-482-5050, or Hilary Sadler, Esq. at 202-482-4340, Import Administration, International Trade Administration, U.S. Department of Commerce, 14th Street & Constitution Avenue, NW., Washington, DC 20230.

Background

On December 1, 2004, the Department initiated sunset reviews of the antidumping duty orders on Carbon Steel Butt-Weld Pipe Fittings from Brazil, Japan, the People's Republic of China, Taiwan, and Thailand, and Granular Polytetrafluoroethylene Resin from Italy and Japan. Based on adequate responses from the domestic interested parties and inadequate responses from respondent interested parties, the Department of Commerce (“the Department”) is conducting expedited sunset reviews of the antidumping duty orders on Carbon Steel Butt-Weld Pipe Fittings from Brazil, Japan, the People's Republic of China, Taiwan, and Thailand, and Granular Polytetrafluoroethylene Resin from Italy and Japan. The Department's final results of these sunset reviews are currently scheduled for March 31, 2005.

Extension of Time Limit for Final Results of Reviews

In accordance with section 751(c)(5)(B) of the Tariff Act of 1930, as amended (“the Act”), the U.S. Department of Commerce (“the Department”) may extend the period of time for making its final determination in a sunset review by not more than 90 days, if it determined that the review is extraordinarily complicated. As set forth in 751(c)(5)(C)(v) of the Act, the Department may treat a sunset review as extraordinarily complicated if it is a review of a transition order, as is the case in these proceedings. The Department has determined, pursuant to section 751(c)(5)(C)(v) of the Act, that the sunset reviews of the antidumping duty orders on Carbon Steel Butt-Weld Pipe Fittings from Brazil, Japan, the People's Republic of China, Taiwan, Thailand, and Granular Polytetrafluoroethylene Resin from Italy and Japan, are extraordinarily complicated and require additional time for the Department to complete its analysis. Therefore, the Department will extend the deadlines in these proceedings and, as a result, intends to issue the final results of the sunset reviews on Carbon Steel Weld-Pipe Fittings from Brazil, Japan, the People's Republic of China, Taiwan, and Thailand, and Granular Polytetrafluoroethylene Resin from Italy and Japan, on or about June 29, 2005, 90 days from the original scheduled date of final results of review.

This notice is issued and published in accordance with sections 751(c)(5)(B) and 751(c)(5)(C)(v) of the Act.

Dated: March 31, 2005.
Barbara E. Tillman,
Acting Deputy Assistant Secretary for Import Administration.

[FR Doc. E5-1609 Filed 4-6-05; 8:45 am]

BILLING CODE 3510-DS-P